FEDERAL RESERVE SYSTEM

Formations of, Acquisitions by, and Mergers of Bank Holding Companies; Correction

This notice corrects a notice (FR Doc. E6-18824) published on page 65524 of the issue for Wednesday, November 8, 2006.

Under the Federal Reserve Bank of Atlanta heading, the entry for Reserve Financial Associates, LLC, Columbus, Ohio, is revised to read as follows:

A. Federal Reserve Bank of Atlanta (Andre Anderson, Vice President) 1000 Peachtree Street, N.E., Atlanta, Georgia 30309:

1. Reserve Financial Associates, LLC, Skilken Financial Associates, LLC, Sofia Financial Associates, LLC, all of Columbus, Ohio, and RFA Acquisition Company, Inc., Naples, Florida; to become bank holding companies by acquiring 100 percent of the voting shares of Business Bank of Florida Corp., and thereby indirectly acquire voting shares of Florida Business Bank, both of Melbourne, Florida.

Comments on this application must be received by December 4, 2006.

Board of Governors of the Federal Reserve System, November 9, 2006.
Robert deV. Frierson,
Deputy Secretary of the Board.

[FR Doc. E6-19230 Filed 11-14-06; 8:45 am]

BILLING CODE 6210-01-S